DEPARTMENT OF DEFENSE

Department of the Army, Corps of Engineers

Request for Project Proposals Pursuant to the Water Resources Development Act of 2020, Pilot Program for Continuing Authority Projects in Small or Disadvantaged Communities—Extension of Time To Submit Proposals; Correction

AGENCY: U.S. Army Corps of Engineers, Department of Defense.

ACTION: Notice; request for pilot project proposals; extension of time; correction.

SUMMARY: The Corps of Engineers published a document in the Federal Register of August 11, 2023, concerning a time extension for a request for project proposals pursuant to Section 165 of the Water Resources Development Act of 2020, Pilot Program for Continuing Authority Projects in Small or Disadvantaged Communities. The document contained an incorrect date.

FOR FURTHER INFORMATION CONTACT: Ms. Amy Babey at wrda20cap165a@usace.army.mil or by phone at 502-645-7199.

SUPPLEMENTARY INFORMATION:

Correction

In the Federal Register of August 11, 2023, in FR Doc. 2023-17225, on page 54606, in the first column, correct the DATES caption to read:

DATES: Written proposals must be submitted on or before October 20, 2023.

Michael L. Connor,
Assistant Secretary of the Army (Civil Works).

[FR Doc. 2023-17825 Filed 8-17-23; 8:45 am]

BILLING CODE 3720-58-P